DEPARTMENT OF HOMELAND SECURITY

U.S. Customs and Border Protection

Notice of Issuance of Final Determination Concerning a Lift Unit for an Overhead Patient Lift System; Correction

AGENCY: U.S. Customs and Border Protection, Department of Homeland Security.

ACTION: Notice of final determination; correction.

SUMMARY: U.S. Customs and Border Protection (CBP) published a document in the Federal Register on Friday, June 4, 2010, providing notice that it had issued a final determination concerning the country of origin of a lift unit for an overhead patient lift system. The document contained two errors that this document corrects.

FOR FURTHER INFORMATION CONTACT: Heather K. Pinnock, Valuation and Special Programs Branch, (202) 325-0034.

SUPPLEMENTARY INFORMATION:

Background

CBP published a document in the Federal Register (75 FR 31803) on June 4, 2010, providing notice that it had issued a final determination under Subpart B of part 177 of title 19 of the Code of Federal Regulations (CFR) concerning the country of origin of a lift unit for an overhead patient lift system. This document corrects in the DATES section of the notice the misuse of a word and in the SUPPLEMENTARY INFORMATION section an inadvertent omission of the date that CBP issued the final determination.

Corrections of Publication

In the Federal Register of June 4, 2010, in FR Doc 2010-13497:

On page 31803, column 3, in the DATES section, first paragraph, the third sentence is corrected to read as follows: “Any party-at-interest, as defined in 19 CFR 177.22(d), may seek judicial review of this final determination by July 6, 2010.”

On page 31804, column 1, in the SUPPLEMENTARY INFORMATION section, the first paragraph, the first sentence is corrected to read as follows: “Notice is hereby given that on May 28, 2010, pursuant to subpart B of part 177 of the CBP regulations (19 CFR part 177, subpart B), CBP issued a final determination concerning the country of origin of the lift unit which may be offered to the U.S. Government under an undesignated government procurement package.”

Dated: June 7, 2010.
Harold M. Singer,
Director, Regulations and Disclosure Law Division, Office of International Trade.

[FR Doc. 2010-14019 Filed 6-10-10; 8:45 am]

BILLING CODE 9111-14-P